FEDERAL COMMUNICATIONS COMMISSION

47 CFR Part 73

[DA 06-729; MB Docket No. 06-72; RM-11245

Radio Broadcasting Services; Boardman, OR and Clarkston, WA

AGENCY: Federal Communications Commission.

ACTION: Proposed rule.

SUMMARY: This document requests comments on a Petition for Rule Making filed by SSR Communications, Inc. (“Petitioner”), requesting the allotment of Channel 231C3 to Boardman, Oregon. To accommodate this allotment, Petitioner requested the reclassification of FM Station KCLK-FM, Channel 231C, Clarkston, Washington to specify operation on Channel 231C0, pursuant to the reclassification procedures adopted by the Commission. The Commission has recently reclassified Station KCLK-FM to Channel 231C0. Channel 231C3 can be allotted to Boardman, Oregon, with a site restriction of 18.5 kilometers (11.5 miles) west of Boardman, at reference coordinates of 45-53-51 NL and 119-55-21 WL.

DATES: Comments must be filed on or before May 22, 2006, and reply comments on or before June 6, 2006. Any counterproposal filed in this proceeding need only protect Station KCLK-FM, Clarkston, Washington, as a Class C0 allotment.

ADDRESSES: Federal Communications Commission, 445 Twelfth Street, SW., Washington, DC 20554. In addition to filing comments with the FCC, interested parties should serve the petitioner as follows: Matthew K. Wesolowski, General Manager; SSR Communications, Inc.; 5270 West Jones Bridge Road; Norcross, Georgia 30092-1628.

FOR FURTHER INFORMATION CONTACT: R. Barthen Gorman, Media Bureau, (202) 418-2180.

SUPPLEMENTARY INFORMATION: This is a synopsis of the Commission's Notice of Proposed Rule Making, MB Docket No. 06-72, adopted March 29, 2006, and released March 31, 2006. The complete text of this decision may also be purchased from the Commission's duplicating contractor, Best Copy and Printing, Inc., 445 12th Street, SW., Room CY-B402, Washington, DC, 20054, telephone 1-800-378-3160 or http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

For the reasons discussed in the preamble, the Federal Communications Commission proposes to amend 47 CFR part 73 as follows:

PART 73—RADIO BROADCAST SERVICES

1. The authority citation for part 73 continues to read as follows:

Authority: 47 U.S.C. 154, 303, 334, 336.

§ 73.202 [Amended]

2. Section 73.202(b), the Table of FM Allotments under Oregon, is amended by adding Boardman, Channel 231C0.

Federal Communications Commission.
John A. Karousos,
Assistant Chief, Audio Division, Media Bureau.

[FR Doc. E6-5577 Filed 4-18-06; 8:45 am]

BILLING CODE 6712-01-P